DEPARTMENT OF COMMERCE

National Oceanic and Atmospheric Administration

[I.D. 081004B]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: The Assistant Regional Administrator for Sustainable Fisheries, Northeast Region, NMFS (Assistant Regional Administrator), has made a preliminary determination that an application for EFPs contains all of the required information and warrants further consideration. The Assistant Regional Administrator is considering the impacts of the activities to be authorized under the EFPs with respect to the Northeast (NE) Multispecies Fishery Management Plan (FMP). However, further review and consultation may be necessary before a final determination is made to issue EFPs. Therefore, NMFS announces that the Assistant Regional Administrator proposes to issue EFPs in response to an application submitted by Manomet Center for Conservation Sciences (Manomet) that would allow three vessels to conduct fishing operations that are otherwise restricted by the regulations governing the fisheries of the Northeastern United States. The EFP would exempt three vessels from the minimum mesh size requirements for the Gulf of Maine (GOM) Regulated Mesh Area (RMA); regulations pertaining to the GOM Rolling Closure Areas V; and minimum fish size requirements. The experiment proposes to conduct a study to target cod and other groundfish species using modified bottom trawl gear to assess the effectiveness of square and hexagonal mesh escape windows, both with and without visual stimuli, in reducing the bycatch of non-target and undersized fish in the GOM groundfish fishery. The EFP would allow these exemptions for three commercial fishing vessels, for not more than 16 days of sea trials. All experimental work would be monitored at sea by observers trained to NMFS standards as part of this Cooperative Research Partners Initiative-funded project. Regulations under the Magnuson-Stevens Fishery Conservation and Management Act (Magnuson-Stevens Act) require publication of this notification to provide interested parties the opportunity to comment on applications for proposed EFPs.

DATES: Comments on this document must be received on or before September 1, 2004.

ADDRESSES: Written comments should be sent to Patricia A. Kurkul, Regional Administrator, NMFS, NE Regional Office, 1 Blackburn Drive, Gloucester, MA 01930. Mark the outside of the envelope “Comments on Visual Stimuli EFP Proposal.” Comments may also be sent via fax to (978) 281-9135, or submitted via e-mail to the following address: da638@noaa.gov.

FOR FURTHER INFORMATION CONTACT: Heather Sagar, Fishery Management Specialist, phone: 978-281-9341, fax: 978-281-9135.

SUPPLEMENTARY INFORMATION: A final application for an EFP was submitted on July 13, 2004, by Dr. Christopher Glass. This request would build upon data collected by Manomet under an approved EFP that began October 1, 2003. The purpose of the experiment is to assess the selective efficiency of various codend configurations, specifically escape windows and visual stimuli, that could effectively reduce bycatch of non-target and undersized fish in the GOM groundfish fishery and allow better and more effective management of groundfish stocks. Specific objectives of the study include comparing the catch selectivity of each of the experimental codend configurations to regulated mesh codends currently used by the fishing industry and to quantify the behavioral responses of different species to the experimental codend configurations. The results of this study will be submitted to NMFS, the New England Fishery Management Council, and any other interested parties through newsletters, popular articles, and meetings throughout the region.

This research would consist of the development of modified bottom trawl nets containing different configurations of an escape window and visual stimuli surrounded by 3-inch (7.6-cm) mesh codend covers to measure the escapement of undersized fish. These nets would test the difference in juvenile retention between square and hexagonal mesh escape windows, both with and without visual stimuli in the form of a black panel wrapped around the net between the extension and the codend of the net. A total of four experimental extension/codend configurations would be developed, including: (1) A codend made of 6.5-inch (16.5-cm) diamond mesh preceded by a 7-inch (17.7-cm) square mesh escape window in the extension; (2) a codend made of 6.5-inch (16.5-cm) diamond mesh preceded by a 7-inch (17.7-cm) hexagonal mesh escape window in the extension; (3) a codend made of 6.5-inch (16.5-cm) diamond mesh preceded by a 7-inch (17.7-cm) square mesh escape window in the extension, with additional visual stimulus by a black panel wrapped around the codend between the escape window and the codend; and (4) a codend made of 6.5-inch (16.5-cm) diamond mesh preceded by a 7-inch (17.7-cm) hexagonal mesh escape window in the extension, with additional visual stimulus by a black panel wrapped around the codend between the escape window and the codend ball. Two conventional nets of 6.5-inch (16.5-cm) diamond mesh and 6.5-inch (16.5-cm) square mesh codends would be used to compare the effectiveness of the experimental extension configurations.

The EFP would allow three commercial vessels to conduct a total of 16 days of sea trials in support of this study. During these sea trials, vessels would test all four experimental codend configurations and control codends. Five 1-hour experimental tows, and ten 20-minute control tows would be made per vessel per days-at-sea (DAS). All fish retained in the codend and the cover would be weighed and measured as quickly as possible. All legal-sized fish would be landed and sold to offset vessel costs. No undersized fish would be retained as part of this study, and any caught would be returned to the sea as quickly as possible. All vessels would be required to use DAS.

This work would examine the use of inexpensive visual stimuli to reduce bycatch of undersized fish. It is estimated that the use of visual stimuli can induce escape behavior in nearly all species, and may increase escapement of undersized fish by up to 90 percent. Therefore, it is necessary to have an exemption to allow the use of a 3-inch (7.6-cm) codend cover on the net in order to quantify the number of undersized fish, and to assess the success of the visual stimuli and escape windows. This work also would examine seasonal effects on gear selectivity. Seasonal variation has been demonstrated for fisheries in other parts of the world. It is speculated that codends and other bycatch reduction devices may not perform in the same manner in all areas at all times. Therefore, in order to vary the season and have the maximum likelihood of catching a wide range of groundfish species, it is necessary to have access to the GOM Rolling Closure Area V.

Underwater video cameras would be placed within the net and in the codend cover to record reaction behavior of fish to the escape windows, visual stimuli, and codend mesh. Videotapes would be analyzed to develop behavioral traces of reaction behavior for each species. The catches of each codend configuration would be compared and analyzed to assess the effectiveness of the escape windows, visual stimuli, and codend mesh shapes (diamond versus square mesh).

The intended sampling area includes the western GOM, including 30-minute statistical squares 124, 125, 138, and 139, during September and October 2004. This area includes the GOM Rolling Closure Area V. Access to this areas is necessary to be able to sample a wide range of fish species in sufficient numbers during the proposed project time frame. Sampling would not take place in the Western GOM Closed Area during this research.

The participating vessels would be required to report all landings in their Vessel Trip Reports. The data collection activities aboard the participating vessel would be conducted by observers trained to NMFS standards to ensure compliance with the experimental fishery objectives.

Regulations under the Magnuson-Stevens Act require publication of this notification to provide interested parties the opportunity to comment on applications for proposed EFPs.

Authority: 16 U.S.C. 1801 et seq.

Dated: August 12, 2004.
Alan D. Risenhoover,
Acting Director, Office of Sustainable Fisheries, National Marine Fisheries Service.

[FR Doc. 04-18826 Filed 8-16-04; 8:45 am]

BILLING CODE 3510-22-S